DEPARTMENT OF ENERGY

Federal Energy Regulatory Commission

Sunshine Act Meeting

April 17, 2002.

The following notice of meeting is published pursuant to section 3(A) of the Government in the Sunshine Act (Pub. L. No. 94-409), 5 U.S.C 552B:

AGENCY HOLDING MEETING: Federal Energy Regulatory Commission.

DATE AND TIME: April 24, 2002, 10 a.m.

PLACE: Room 2C, 888 First Street, NE., Washington, D.C. 20426.

STATUS: Open.

MATTERS TO BE CONSIDERED: Agenda.

Note: Items listed on the agenda may be deleted without further notice.

CONTACT PERSON FOR MORE INFORMATION: Magalie R. Salas, Secretary, Telephone (202) 208-0400. For a recording listing items stricken from or added to the meeting, call (202) 208-1627.

This is a list of matters to be considered by the Commission. It does not include a listing of all papers relevant to the items on the agenda; however, all public documents may be examined in the Reference and Information Center.

790th—Meeting April 24, 2002; Regular Meeting 10 a.m.

Administrative Agenda

A-1.

Docket# AD02-1, 000, Agency Administrative Matters

A-2.

Docket# AD02-7, 000, Customer Matters, Reliability, Security and Market Operations

Markets, Tariffs and Rates—Electric

E-1.

Docket# RM02-1, 000, Standardization of Generator Interconnection Agreements and Procedures

E-2.

Docket# RM01-8, 000, Revised Public Utility Filing Requirements

E-3.

Docket# EL01-118, 000, Investigation of Terms and Conditions of Public Utility Market-Based Rate Authorizations

Other#S EL01-118, 001, Investigation of Terms and Conditions of Public Utility Market-Based Rate Authorizations

E-4.

Docket# EC01-156, 000, TRANSLink Transmission Company, L.L.C., Alliant Energy Corporate Services, Inc., MidAmerican Energy Company and Xcel Energy Services, Inc.

Other#S ER01-3154, 000, Alliant Energy Corporate Services, Inc., MidAmerican Energy Company, Xcel Energy Services, Inc. and TRANSLink Transmission Company, L.L.C.

E-5.

Docket# EL02-65, 000, Alliance Companies, Ameren Services Company on behalf of: Union Electric Company, Central Illinois Public Service Company, American Electric Power Service Corporation on behalf of: Appalachian Power Company, Columbus Southern Power Company, Indiana Michigan Power Company, Kentucky Power Company, Kingsport Power Company, Ohio Power Company, Wheeling Power Company, Dayton Power and Light Company, Exelon Corporation on behalf of: Commonwealth Edison Company, Commonwealth Edison Company of Indiana, Inc., FirstEnergy Corporation on behalf of: American Transmission Systems, Inc., Cleveland Electric Illuminating Power Company, Ohio Edison Company, Pennsylvania Power Company, Toledo Edison Company, Illinois Power Company, Northern Indiana Public Service Company and National Grid USA

Other#S RT01-88, 016, Alliance Companies, Ameren Services Company on behalf of: Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company, Michigan Electric Transmission Company, Dayton Power and Light Company, Exelon Corporation on behalf of: Commonwealth Edison Company, Commonwealth Edison Company of Indiana, Inc., First Energy Corporation on behalf of: American Transmission Systems, Inc., Cleveland Electric Illuminating Power Company, Ohio Edison Company, Pennsylvania Power Company, Toledo Edison Company, Illinois Power Company, Northern Indiana Public Service Company and Virginia Electric and Power Company

E-6.

Omitted

E-7.

Omitted

E-8.

Docket# ER02-1149, 000, ISO New England, Inc.

Other#S ER02-1149, 001, ISO New England, Inc.

E-9.

Omitted

E-10.

Docket# ER02-1265, 000, Entergy Gulf States, Inc.

E-11.

Docket# ER02-947, 000, Midwest Independent Transmission System Operator, Inc.

Other#S ER02-947, 001, Midwest Independent Transmission System Operator, Inc.

E-12.

Docket# ER02-1264, 000, Cabrillo Power I LLC and Cabrillo Power II LLC

E-13.

Docket# ER02-863, 000, Midwest Independent Transmission System Operator, Inc.

Other#S ER02-330, 000, Alliant Energy Corporate Services, Inc.

ER02-330, 001, Alliant Energy Corporate Services, Inc.

ER02-863, 001, Midwest Independent Transmission System Operator, Inc.

E-14.

Docket# RT01-12, 000, Indianapolis Power & Light Company

Other#S RT01-52, 000, Alliant Energy Corporate Services, Inc., American Transmission Company, LLC, Central Illinois Light Company, Edison Sault Electric Company, Madison Gas & Electric Company, Southern Indiana Gas & Electric Company, Wisconsin Public Service Corporation and Upper Peninsula Power Company

RT01-69, 000, Wayne-White Counties Electric Cooperative

RT01-91, 000, American Transmission Company LLC

RT01-96, 000, Alliant Energy Corporate Services, Inc., American Transmission Company LLC, Central Illinois Light Company, Cinergy Corporation, Hoosier Energy Rural Cooperative, Inc., Kentucky Utilities Company, Louisville Gas & Electric Company, Northern States Power Company (Minnesota), Northern States Power Company (Wisconsin) and Southern Indiana Gas & Electric Company

E-15.

Omitted

E-16.

Docket# ER00-1743, 002, Entergy Services, Inc.

Other#S ER00-1743, 003, Entergy Services, Inc.

E-17.

Docket# ER00-3591, 009, New York Independent System Operator, Inc.

Other#S EL00-70, 006, New York State Electric & Gas Corporation v. New York Independent System Operator, Inc.

ER00-1969, 010, New York Independent System Operator, Inc.

ER00-3038, 005, New York Independent System Operator, Inc.

E-18.

Docket# ER02-1182, 000, Niagara Mohawk Power Corporation

E-19.

Omitted

E-20.

Docket# ER96-2573, 003, Southern Company Services, Inc.

Other#S ER93-730, 013, Cinergy Capital & Trading, Inc.

ER94-24, 030, Enron Power Marketing, Inc.

ER94-968, 027, Electric Clearinghouse, Inc.

ER94-1188, 028, LG&E Energy Marketing, Inc.

ER94-1384, 023, Morgan Stanley Capital Group Inc.

ER94-1685, 025, Citizens Power Sales

ER95-393, 023, Hartford Power Sales, L.L.C.

ER95-428, 019, EL Paso Power Services Company

ER95-892, 043, CL Power Sales (1-5), L.L.C.

ER95-1007, 013, Logan Generating Company, L.P.

ER95-1615, 018, Entergy Power Marketing Corporation

ER95-1625, 020, PG&E Energy Trading-Power, L.P.

ER96-25, 016, Coral Power, L.L.C.

ER96-2408, 013, Avista Energy, Inc.

ER96-2652, 031, CL Power Sales (6-10), L.L.C.

ER96-2921, 015, Duke Energy Trading and Marketing, L.L.C.

ER97-654, 010, Engage Energy US, L.P.

ER97-2261, 010, Constellation Power Source, Inc.

ER97-4587, 001, Williams Generation Company—Hazelton

ER98-6, 007, USGen New England, Inc.

ER98-13, 010, Enron Energy Services, Inc.

ER98-107, 007, Sithe Power Marketing, Inc.

ER98-830, 005, Millenium Power Partners, L.P.

ER98-1055, 006, Merchant Energy Group of the Americas

ER98-1278, 004, Western Kentucky Energy Corporation

ER98-4400, 002, Pittsfield Generating Company, L.P.

ER98-4540, 001, Louisville Gas and Electric Company and Kentucky Utilities Company

ER99-890, 002, CL Power Sales 15, L.L.C.

ER99-891, 002, CL Power Sales 14, L.L.C.

ER99-892, 002, CL Power Sales 13, L.L.C.

ER99-893, 002, CL Power Sales 12, L.L.C.

ER99-894, 002, CL Power Sales 11, L.L.C.

ER99-1004, 002, Entergy Nuclear Generation Company

ER99-1125, 002, LG&E Westmoreland Renssalaer

ER99-1714, 001, Lake Road Generating Company, L.P.

ER99-1722, 001, Williams Energy Marketing & Trading Company

ER99-1751, 002, Aquila Energy Marketing Corporation

ER99-1801, 002, Reliant Energy Services, Inc.

ER99-2079, 001, Reliant Energy Ormond Beach, L.L.C.

ER99-2080, 001, Reliant Energy Mandalay, L.L.C.

ER99-2082, 001, Reliant Energy Coolwater, L.L.C.

ER99-2083, 001, Reliant Energy Etiwanda, L.L.C.

ER99-2108, 001, LG&E Capital Corporation

ER99-2081, 001, Reliant Energy Ellwood, L.L.C.

E-21.

Docket# ER02-1205, 000, PJM Interconnection, L.L.C.

E-22.

Docket# ER00-1969, 004, New York Independent System Operator, Inc.

Other#S ER00-1969, 011, New York Independent System Operator, Inc.

E-23.

Omitted

E-24.

Docket# TX00-1, 001, United States Department of Energy—Western Area Power Administration, Colorado River Storage Project Management Center

Other#S ER00-896, 001, Public Service Company of New Mexico

E-25.

Omitted

E-26.

Docket# EL01-80, 003, National Grid USA

Other#S EL02-65, 000, Alliance Companies, Ameren Services Company on behalf of: Union Electric Company, Central Illinois Public Service Company, American Electric Power Service Corporation on behalf of: Appalachian Power Company, Columbus Southern Power Company, Indiana Michigan Power Company, Kentucky Power Company, Kingsport Power Company, Ohio Power Company, Wheeling Power Company, Dayton Power and Light Company, Exelon Corporation on behalf of: Commonwealth Edison Company, Commonwealth Edison Company of Indiana, Inc. FirstEnergy Corporation on behalf of: American Transmission Systems, Inc., Cleveland Electric Illuminating Power Company, Ohio Edison Company, Pennsylvania Power Company, Toledo Edison Company, Illinois Power Company, Northern Indiana Public Service Company and National Grid USA

RT01-88, 016, Alliance Companies, Ameren Services Company on behalf of: Union Electric Company, Central Illinois Public Service Company, American Electric Power Service Corporation on behalf of: Appalachian Power Company, Columbus Southern Power Company, Indiana Michigan Power Company, Kentucky Power Company, Kingsport Power Company, Ohio Power Company, Wheeling Power Company, Consumers Energy Company, Michigan Electric Transmission Company, Dayton Power and Light Company, Exelon Corporation on behalf of: Commonwealth Edison Company, Commonwealth Edison Company of Indiana, Inc., First Energy Corporation on behalf of: American Transmission Systems, Inc., Cleveland Electric Illuminating Power Company, Ohio Edison Company, Pennsylvania Power Company, Toledo Edison Company, Illinois Power Company, Northern Indiana Public Service Company and Virginia Electric and Power Company

E-27.

Docket# ER02-254, 001, Sierra Pacific Power Company

E-28.

Docket# ER02-605, 001, Puget Sound Energy, Inc.

E-29.

Docket# ER02-1151, 000, Entergy Arkansas, Inc.

E-30.

Docket# ER02-1079, 000, Midwest Independent Transmission System Operator, Inc.

E-31.

Omitted

E-32.

Omitted

E-33.

Docket# EL02-70, 000, The United Illuminating Company v. ISO New England Inc.

Other#S EL02-61, 000, PG&E National Energy Group, PG&E Generating, USGen New England, Inc. and PG&E Energy Trading-Power, L.P. v. ISO New England Inc.

E-34.

Docket# EL02-25, 000, Intermountain Rural Electric Association v. Public Service Company of Colorado

E-35.

Docket# EL01-113, 000, Mid-Tex G&T Electric Cooperative, Inc., Big Country Electric Cooperative, Inc., Coleman County Electric Cooperative, Inc., Concho Valley Electric Cooperative, Inc., Golden Spread Electric Cooperative, Inc., Kimble Electric Cooperative, Inc., Lighthouse Electric Cooperative, Inc., Rio Grande Electric Cooperative, Inc., Southwest Texas Electric Cooperative, Inc. and Taylor Electric Cooperative, Inc. v. West Texas Utilities Company

E-36.

Docket# EL02-60, 000, Public Utilities Commission of the State of California v. Sellers of Long Term Contracts to the California Department of Water Resources

Other#S EL02-26, 000, Nevada Power Company and Sierra Pacific Power Company v. Duke Energy Trading and Marketing, L.L.C., Enron Power Marketing, Inc., El Paso Merchant Energy and American Electric Power Services Corporation

EL02-28, 000, Nevada Power Company and Sierra Pacific Power Company v. Duke Energy Trading and Marketing, L.L.C., Enron Power Marketing, Inc., El Paso Merchant Energy and American Electric Power Services Corporation

EL02-29, 000, Nevada Power Company v. Morgan Stanley Capital Group, Calpine Energy Services, Reliant Energy Services, Mirant Americas Energy Marketing, L.P., BP Energy Company and Allegheny Energy Supply Company, L.L.C.

EL02-30, 000, Nevada Power Company v. Morgan Stanley Capital Group, Calpine Energy Services, Reliant Energy Services, Mirant Americas Energy Marketing, L.P., BP Energy Company and Allegheny Energy Supply Company, L.L.C.

EL02-31, 000, Nevada Power Company v. Morgan Stanley Capital Group, Calpine Energy Services, Reliant Energy Services, Mirant Americas Energy Marketing, L.P., BP Energy Company and Allegheny Energy Supply Company, L.L.C.

EL02-32, 000, Nevada Power Company v. Morgan Stanley Capital Group, Calpine Energy Services, Reliant Energy Services, Mirant Americas Energy Marketing, L.P., BP Energy Company and Allegheny Energy Supply Company, L.L.C.

EL02-33, 000, Nevada Power Company and Sierra Pacific Power Company v. Duke Energy Trading and Marketing, L.L.C., Enron Power Marketing, Inc., El Paso Merchant Energy and American Electric Power Services Corporation

EL02-34, 000, Nevada Power Company v. Morgan Stanley Capital Group, Calpine Energy Services, Reliant Energy Services, Mirant Americas Energy Marketing, L.P., BP Energy Company and Allegheny Energy Supply Company, L.L.C.

EL02-38, 000, Nevada Power Company and Sierra Pacific Power Company v. Duke Energy Trading and Marketing, L.L.C., Enron Power Marketing, Inc., El Paso Merchant Energy and American Electric Power Services Corporation

EL02-39, 000, Nevada Power Company v. Morgan Stanley Capital Group, Calpine Energy Services, Reliant Energy Services, Mirant Americas Energy Marketing, L.P., BP Energy Company and Allegheny Energy Supply Company, L.L.C.

EL02-43, 000, Southern California Water Company v. Mirant Americas Energy Marketing, L.P.

EL02-56, 000, Public Utility District No. 1 of Snohomish County, Washington v. Morgan Stanley Capital Group, Inc.

EL02-62, 000, California Electricity Oversight Board v. Sellers of Energy and Capacity Under Long-Term Contracts with the California Department of Water Resources

E-37.

Docket# EL02-58, 000, Public Service Company of New Mexico v. Arizona Public Service Company

E-38.

Docket# EL92-33, 004, Barton Village, Inc., Village of Enosburg Falls Water & Light Department, Village of Orleans and Village of Swanton, Vermont v. Citizens Utilities Company

Other#s EL92-33, 005, Barton Village, Inc., Village of Enosburg Falls Water & Light Department, Village of Orleans and Village of Swanton, Vermont v. Citizens Utilities Company

EL92-33, 006, Barton Village, Inc., Village of Enosburg Falls Water & Light Department, Village of Orleans and Village of Swanton, Vermont v. Citizens Utilities Company

EL92-33, 007, Barton Village, Inc., Village of Enosburg Falls Water & Light Department, Village of Orleans and Village of Swanton, Vermont v. Citizens Utilities Company

E-39.

Docket# ER02-352, 001, Southern Company Services, Inc.

Other#s ER02-352, 000, Southern Company Services, Inc.

E-40.

Docket# EL02-11, 000, Central Maine Power Company

E-41.

Docket# ER02-324, 001, Entergy Gulf States, Inc.

Other#s ER02-324, 002, Entergy Gulf States, Inc.

E-42.

Omitted

E-43.

Docket# ER02-407, 001, Geysers Power Company, LLC

E-44.

Omitted

E-45.

Docket# ER91-195, 035, Western Systems Power Pool

Other#s ER91-195, 042, Western Systems Power Pool

ER91-195, 043, Western Systems Power Pool

ER91-195, 044, Western Systems Power Pool

ER91-195, 045, Western Systems Power Pool

ER91-195, 046, Western Systems Power Pool

ER91-195, 047, Western Systems Power Pool

ER91-195, 048, Western Systems Power Pool

ER91-195, 049, Western Systems Power Pool

E-46.

Docket# ER00-1969, 009, New York Independent System Operator, Inc.

Other#s ER00-1969, 012, New York Independent System Operator, Inc.

ER00-3591, 008, New York Independent System Operator, Inc.

ER00-3591, 010, New York Independent System Operator, Inc.

Miscellaneous Agenda

M-1.

Docket# RM02-8, 000, Revised Fees for Record Requests

Markets, Tariffs and Rates—Gas

G-1.

Docket# GT02-13, 000, Tennessee Gas Pipeline Company

G-2.

Docket# RP99-106, 006, TransColorado Gas Transmission Company

G-3.

Docket# RP96-320, 055, Gulf South Pipeline Company, LP

G-4.

Docket# RP99-301, 045, ANR Pipeline Company

G-5.

Docket# RP99-301, 044, ANR Pipeline Company

G-6.

Docket# RP02-215, 000, Kinder Morgan Interstate Gas Transmission LLC

Other#s RP02-215, 001, Kinder Morgan Interstate Gas Transmission LLC

G-7.

Docket# RP02-210, 000, Questar Pipeline Company

G-8.

Docket# RP02-209, 000, Southern Natural Gas Company

G-9.

Docket# RP00-336, 002, El Paso Natural Gas Company

Other#s RP01-484, 000, Aera Energy, LLC, Amoco Production Company, BP Energy Company, Burlington Resources Oil & Gas Company LP, Conoco Inc., Coral Energy Resources LP, ONEOK Energy Marketing & Trading Company, L.P., Pacific Gas and Electric Company, Panda Gila River L.P., the Public Utilities Commission of the State of California, Southern California Edison Company, Southern California Gas Company and Texaco Natural Gas Inc. v. El Paso Natural Gas Company

RP01-486, 000, Texas, New Mexico and Arizona Shippers: Apache Nitrogen Products, Inc., Arizona Electric Power Cooperative, Inc., Arizona Gas Division of Citizens Communications Company, BHP Copper, Inc., El Paso Electric Company, El Paso Municipal Customer Group, Phelps Dodge Corporation, Public Service Company of New Mexico, Salt River Project and Southern Union Gas Company v. El Paso Natural Gas Company

RP00-139, 000, KN Marketing, L.P. v. El Paso Natural Gas Company

G-10.

Omitted

G-11.

Omitted

G-12.

Omitted

G-13.

Docket# RP97-255, 043, TransColorado Gas Transmission Company

G-14.

Omitted

G-15.

Docket# RP02-196, 000, Reliant Energy Gas Transmission Company

G-16.

Docket# IS02-10, 000, Kinder Morgan Operating L.P. “A”

G-17.

Docket# RP00-466, 000, Enbridge Offshore Pipelines (UTOS) LLC (Formerly: U-T Offshore System, L.L.C.)

Other#s RP00-618, 000, Enbridge Offshore Pipelines (UTOS) LLC (Formerly: U-T Offshore System, L.L.C.)

RP00-618, 001, Enbridge Offshore Pipelines (UTOS) LLC (Formerly: U-T Offshore System, L.L.C.)

G-18.

Docket# RP00-486, 000, Cove Point LNG Limited Partnership

Other#s RP01-40, 000, Cove Point LNG Limited Partnership

RP01-40, 001, Cove Point LNG Limited Partnership

G-19.

Omitted

G-20.

Docket# RP00-491, 000, Petal Gas Storage, L.L.C.

Other#s RP00-491, 001, Petal Gas Storage, L.L.C.

CP01-69, 003, Petal Gas Storage, L.L.C.

RP02-188, 000, Petal Gas Storage, L.L.C.

G-21.

Docket# RP00-319, 000, Discovery Gas Transmission L.L.C.

Other#s RP00-598, 000, Discovery Gas Transmission L.L.C.

G-22.

Docket# RP02-134, 000, Maritimes & Northeast Pipeline, L.L.C.

G-23.

Docket# RP00-489, 000, Young Gas Storage Company, Ltd.

Other#s RP01-41, 000, Young Gas Storage Company, Ltd.

G-24.

Docket# RP00-404, 003, Northern Natural Gas Company

Other#s RP00-404, 004, Northern Natural Gas Company

RP01-76, 005, Northern Natural Gas Company

RP01-76, 006, Northern Natural Gas Company

RP01-382, 009, Northern Natural Gas Company

RP01-382, 010, Northern Natural Gas Company

RP01-396, 003, Northern Natural Gas Company

RP01-396, 004, Northern Natural Gas Company

G-25.

Omitted

G-26.

Docket# IS01-482, 000, Mid-America Pipeline Company

G-27.

Docket# IS01-108, 001, Pioneer Pipe Line Company

Other#s DO01-2, 000, Pioneer Pipe Line Company

G-28.

Omitted

G-29.

Docket# RP01-190, 001, Kern River Gas Transmission Company

G-30.

Docket# RP01-246, 004, Natural Gas Pipeline Company of America

G-31.

Docket# RM96-1, 020, Standards for Business Practices of Interstate Natural Gas Pipelines

G-32.

Docket# RP02-217, 000, Panhandle Eastern Pipe Line Company

Energy Projects—Hydro

H-1.

Docket# P-11873, 000, Symbiotics, LLC

H-2.

Docket# P-11890, 000, Symbiotics, LLC

H-3.

Docket# P-11911, 000, Symbiotics, LLC

Energy Projects—Certificates

C-1.

Docket# CP01-361, 000, Northwest Pipeline Corporation

C-2.

Docket# CP02-116, 000, Tennessee Gas Pipeline Company

Other#s CP02-117, 000, Tennessee Gas Pipeline Company

C-3.

Docket# CP01-405, 000, Kern River Gas Transmission Company

C-4.

Docket# CP02-97, 000, West Texas Gas, Inc.

C-5.

Docket# CP01-94, 002, Nornew Energy Supply, Inc. and Norse Pipeline, L.L.C.

Other#s CP01-95, 001, Nornew Energy Supply, Inc.

CP01-96, 001, Nornew Energy Supply, Inc.

CP01-97, 002, Nornew Energy Supply, Inc. and Norse Pipeline, L.L.C.

C-6.

Docket# CP93-253, 005, El Paso Natural Gas Company

C-7.

Docket# CP01-417, 001, Transcontinental Gas Pipe Line Corporation

Magalie R. Salas,
Secretary.

[FR Doc. 02-9879 Filed 4-19-02; 11:21 am]

BILLING CODE 6717-01-P